DEPARTMENT OF COMMERCE

National Oceanic and Atmospheric Administration

RIN 0648-XG540

Marine Mammals; File No. 22187

AGENCY: National Marine Fisheries Service (NMFS), National Oceanic and Atmospheric Administration (NOAA), Commerce.

ACTION: Notice; receipt of application.

SUMMARY: Notice is hereby given that Heather E. Liwanag, Ph.D., 1 Grand Avenue, San Luis Obispo, CA 93407-0401, has applied in due form for a permit to conduct research on northern elephant seals (Mirounga angustirostris) in California.

DATES: Written, telefaxed, or email comments must be received on or before January 25, 2019.

ADDRESSES: The application and related documents are available for review by selecting “Records Open for Public Comment” from the “Features” box on the Applications and Permits for Protected Species (APPS) home page, https://apps.nmfs.noaa.gov, and then selecting File No. 22187 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Shasta McClenahan, (301) 427-8401.

SUPPLEMENTARY INFORMATION: The subject permit is requested under the authority of the Marine Mammal Protection Act of 1972, as amended (MMPA; 16 U.S.C. 1361 et seq.), the regulations governing the taking and importing of marine mammals (50 CFR part 216), and the Fur Seal Act of 1966, as amended (16 U.S.C. 1151 et seq.).

The applicant requests a five year permit to study northern elephant seals at the Piedras Blancas Rookery in San Simeon, CA, and new pupping beaches at Vandenberg Air Force Base. Research would be conducted year-round on all age classes and both sexes, with increased frequency and effort during the breeding season (December-April). This study would establish a catalog of known individual seals at the Piedras Blancas colony via marking, tagging, and weighing of young-of-the-year pups. Types of takes include behavioral observations, measurements, bioacoustic recordings, acoustic playbacks, marking, flipper tagging, capture, and non-invasive physiological sampling. A total of 64, 927 elephant seals will be taken annually: 3,550 handle/release takes, 500 capture/handle/release takes, 1,575 harassment takes, 59,000 incidental disturbance takes, and two unintentional mortality takes, not to exceed five mortalities over the life of the permit. Samples from up to 300 naturally deceased elephant seals may be salvaged and imported, exported, or received annually. Non-target species that may be incidentally disturbed include California sea lions (Zalophus californianus), harbor seals (Phoca vitulina), and northern fur seals (Callorhinus ursinus).

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: December 19, 2018.
Julia Marie Harrison,
Chief, Permits and Conservation Division, Office of Protected Resources, National Marine Fisheries Service.

[FR Doc. 2018-27870 Filed 12-21-18; 8:45 am]

BILLING CODE 3510-22-P